DEPARTMENT OF HOMELAND SECURITY

Coast Guard

33 CFR Part 117

[CGD08-03-010]

Drawbridge Operation Regulations; Bayou Lafourche, Golden Meadow, LA

AGENCY: Coast Guard, DHS.

ACTION: Notice of temporary deviation from regulations.

SUMMARY: The Commander, Eighth Coast Guard District, has issued a temporary deviation from the regulation governing the operation of the Golden Meadow Vertical Lift Span Highway Bridge across Bayou Lafourche, mile 23.9, at Golden Meadow, Lafourche Parish, LA. This deviation allows the bridge to remain closed to navigation on March 25, 2003. The deviation is necessary to conduct scheduled maintenance to the drawbridge.

DATES: This deviation is effective from 7 a.m. through 3 p.m. on March 25, 2003.

ADDRESSES: Materials referred to in this document are available for inspection or copying at the office of the Eighth Coast Guard District, Bridge Administration Branch, Hale Boggs Federal Building, room 1313, 501 Magazine Street, New Orleans, Louisiana 70130-3396 between 7 a.m. and 3 p.m., Monday through Friday, except Federal holidays. The telephone number is (504) 589-2965. The Bridge Administration Branch of the Eighth Coast Guard District maintains the public docket for this temporary deviation.

FOR FURTHER INFORMATION CONTACT: Kay Wade, Bridge Administration Branch, telephone (504) 589-2965.

SUPPLEMENTARY INFORMATION: The Louisiana Department of Transportation and Development has requested a temporary deviation in order to remove and replace defective shaft couplings on the main gear box of the vertical lift span bridge across Bayou Lafourche at mile 23.9 at Golden Meadow, Lafourche Parish, Louisiana. This maintenance is essential for the continued safe operation of the bridge. This temporary deviation will allow the bridge to remain in the closed-to-navigation position from 7 a.m. through 3 p.m. on Tuesday, March 25, 2003.

The vertical lift span bridge has a vertical clearance of 2.91 feet above mean high water, elevation 3.0 feet Mean Sea Level and 5.91 feet above mean low water, elevation 0.0 Mean Sea Level in the closed-to-navigation position. Navigation at the site of the bridge consists of barge tows, construction equipment, dredges, fishing, shrimp and pleasure craft, much of which is primarily skiffs and push boats. This eight hour closure will not have a significant effect on these vessels. The bridge normally opens to pass navigation an average of 20 times per day during the trawling off-season. In accordance with 33 CFR 117.5, the draw of the bridge opens on signal. The bridge will not be able to open for emergencies during the closure period. No practical alternate routes are available.

In accordance with 33 CFR 117.35(c), this work will be performed with all due speed in order to return the bridge to normal operation as soon as possible. This deviation from the operating regulations is authorized under 33 CFR 117.35.

Dated: March 12, 2003.
Marcus Redford,
Bridge Administrator.

[FR Doc. 03-6914 Filed 3-21-03; 8:45 am]

BILLING CODE 4910-15-P